DEPARTMENT OF HOMELAND SECURITY

Federal Emergency Management Agency

44 CFR Part 65

[Docket ID FEMA-2011-0002; Internal Agency Docket No. FEMA-B-1237]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Delaware:
Kent | Town of Camden (10-03-0303P) | February 18, 2011; February 25, 2011; The Delaware State News | The Honorable Richard E. Maly, Mayor, Town of Camden, 1783 Friends Way Camden, DE 19934 | June 27, 2011 | 100003
Kent | Unincorporated areas of Kent County (10-03-0303P) | February 18, 2011; February 25, 2011; The Delaware State News | The Honorable P. Brooks Banta, President, Kent County Levy Court, Administrative Complex, 555 South Bay Road, Room 243, Dover, DE 19901 | June 27, 2011 | 100001
Puerto Rico: Puerto Rico | Commonwealth of Puerto Rico (10-02-1752P) | October 13, 2011; October 20, 2011; El Nuevo Dia | The Honorable Rubén Flores-Marzán, Chairperson, Puerto Rico Planning Board, Roberto Sanchez Vilella Governmental Center, North Building, 16th Floor, De Diego Avenue International Baldorioty de Castro Avenue San Juan, PR 00940 | October 6, 2011 | 720000
Texas:
Bexar | City of San Antonio (11-06-0604P) | November 4, 2011; November 11, 2011; The San Antonio Express-News | The Honorable Julián Castro, Mayor, City of San Antonio, 100 Military Plaza San Antonio, TX 78205 | March 12, 2012 | 480045
Texas:
Bexar | Unincorporated areas of Bexar County (11-06-3419P) | November 16, 2011; November 23, 2011; The Daily Commercial Recorder | The Honorable Nelson W. Wolff, Bexar County Judge, 101 West Nueva Street, 10th Floor, San Antonio, TX 78205 | March 22, 2012 | 480035
Denton | Town of Flower Mound (11-06-2301P) | October 25, 2011; November 1, 2011; The Denton Record-Chronicle | The Honorable Melissa D. Northern, Mayor, Town of Flower Mound, 2121 Cross Timbers Road Flower Mound, TX 75028 | February 29, 2012 | 480777
Denton | Unincorporated areas of Denton County (11-06-1910P) | October 28, 2011; November 4, 2011; The Denton Record-Chronicle | The Honorable Mary Horn, Denton County Judge, 110 West Hickory Street, 2nd Floor, Denton, TX 76201 | October 21, 2011 | 480774
Grimes | Unincorporated areas of Grimes County (11-06-2364P) | November 9, 2011; November 16, 2011; The Navasota Examiner | The Honorable Betty Shiflett, Grimes County Judge, Grimes County Courthouse, 100 Main Street Anderson, TX 77830 | May 2, 2012 | 481173
Montgomery | Unincorporated areas of Montgomery County (11-06-3114P) | October 26, 2011; November 2, 2011; The Conroe Courier | The Honorable Alan Sadler, Montgomery County Judge, 501 North Thompson Street, Suite 401, Conroe, TX 77301 | October 19, 2011 | 480483
Tarrant | City of Crowley (11-06-1037P) | November 3, 2011; November 10, 2011; The Crowley Star | The Honorable Billy P. Davis, Mayor, City of Crowley, 201 East Main Street, Crowley, TX 76036 | March 9, 2012 | 480591
Tarrant | City of Fort Worth (11-06-2373P) | November 1, 2011; November 8, 2011; The Fort Worth Star-Telegram | The Honorable Betsy Price, Mayor, City of Fort Worth, 1000 Throckmorton Street Fort Worth, TX 76102 | March 7, 2012 | 480596
Victoria | City of Victoria (11-06-1656P) | November 3, 2011; November 10, 2011; The Victoria Advocate | The Honorable Will Armstrong, Mayor, City of Victoria, 105 West Juan Linn Street Victoria, TX 77901 | March 9, 2012 | 480638
Virginia: Henrico | Unincorporated areas of Henrico County (10-03-0514P) | December 14, 2010; December 21, 2010; The Richmond Times-Dispatch | Mr. Virgil R. Hazelett, Henrico County Manager, 4301 East Parham Road Henrico, VA 23228 | April 20, 2011 | 510077

(Catalog of Federal Domestic Assistance No. 97.022, “Flood Insurance.”)

Dated: December 27, 2011.
Sandra K. Knight,
Deputy Associate Administrator for Mitigation, Department of Homeland Security, Federal Emergency Management Agency.

[FR Doc. 2012-488 Filed 1-11-12; 8:45 am]

BILLING CODE 9110-12-P